DEPARTMENT OF TRANSPORTATION

Federal Motor Carrier Safety Administration

49 CFR Parts 384 and 385

[Docket No. FMCSA-2007-27659]

RIN 2126-AB02

Commercial Driver's License Testing and Commercial Learner's Permit Standards

AGENCY: Federal Motor Carrier Safety Administration (FMCSA), (DOT).

ACTION: Correcting amendments.

SUMMARY: FMCSA published a final rule in the Federal Register on Monday, May 9, 2011, that became effective on July 8, 2011. That final rule amended the commercial driver's license (CDL) knowledge and skills testing standards and established new minimum Federal standards for States to issue the commercial learner's permit (CLP). Since the final rule was published, FMCSA identified minor discrepancies regarding section references in existing regulatory text resulting from the final rule. This document corrects those section references.

DATES: This final rule is effective on May 8, 2012.

FOR FURTHER INFORMATION CONTACT: Robert Redmond, Office of Safety Programs, Commercial Driver's License Division, telephone (202) 366-5014 or email robert.redmond@dot.gov. Office hours are from 8:00 a.m. to 4:30 p.m.

SUPPLEMENTARY INFORMATION: This document corrects section references in a final rule amending the commercial driver's license (CDL) knowledge and skills testing standards, which was published in the Federal Register on Monday, May 9, 2011 (76 FR 26853).

List of Subjects

49 CFR Part 384

Administrative practice and procedure, Alcohol abuse, Drug abuse, Highway safety, Motor carriers.

49 CFR Part 385

Highway safety, Highways and roads, Motor carriers, Motor vehicle safety, Safety fitness procedures.

Accordingly, 49 CFR parts 384 and 385 are corrected by making the following correcting amendments:

PART 384—STATE COMPLIANCE WITH COMMERCIAL DRIVER'S LICENSE PROGRAM

1. The authority citation for part 384 continues to read as follows:

Authority: 49 U.S.C. 31136, 31301 et seq., and 31502; secs. 103 and 215 of Pub. L. 106-159, 113 Stat. 1753, 1767; and 49 CFR 1.73.

2. Revise § 384.234 to read as follows:

§ 384.234 Driver medical certification recordkeeping.

The State must meet the medical certification recordkeeping requirements of § 383.73(b)(5) and (o) of this chapter.

PART 385—SAFETY FITNESS PROCEDURES

3. The authority citation for part 385 continues to read as follows:

Authority: 49 U.S.C. 113, 504, 521(b), 5105(e), 5109, 5113, 13901-13905, 31136, 31144, 31148, and 31502; Sec. 350 of Pub. L. 107-87; and 49 CFR 1.73.

4. Amend the Table to § 385.321 by revising Violation 7 to read as follows:

§ 385.321 What failures of safety management practices disclosed by the safety audit will result in a notice to a new entrant that its USDOT new entrant registration will be revoked?

* * * * *

Table to § 385.321—Violations That Will Result in Automatic Failure of the New Entrant Safety Audit
* * * * * * *
7. § 383.37(b)-Knowingly allowing, requiring, permitting, or authorizing an employee to operate a commercial motor vehicle with a commercial learner's permit or commercial driver's license which is disqualified by a State, has lost the right to operate a CMV in a State or who is disqualified to operate a commercial motor vehicle | Single occurrence.
* * * * * * *

Issued on: April 19, 2012.
Larry W. Minor,
Associate Administrator for Policy.

[FR Doc. 2012-10931 Filed 5-7-12; 8:45 am]

BILLING CODE 4910-EX-P